DEPARTMENT OF TRANSPORTATION

Federal Motor Carrier Safety Administration

[Docket No. FMCSA-2014-0096]

Commercial Driver's License: Commonwealth of Virginia, Department of Motor Vehicles; Application for Exemption

AGENCY: Federal Motor Carrier Safety Administration (FMCSA), DOT.

ACTION: Notice of application for exemption; request for comments.

SUMMARY: FMCSA announces that it has received an application from the Commonwealth of Virginia Department of Motor Vehicles (Virginia DMV) for a limited exemption from the Agency's commercial driver's license (CDL) regulation. Section 383.77(b)(1) allows a State to waive the CDL skills test described in 49 CFR 383.113 for applicants regularly employed or previously employed within the last 90 days in a military position requiring operation of a commercial motor vehicle (CMV). Virginia DMV proposes that it be allowed to extend the 90-day timeline to one year following the driver's separation from military service. Virginia DMV believes the 90-day timeframe is too short to take advantage of the waiver for many of the qualified discharged veterans reentering and settling into civilian life. FMCSA requests public comment on Virginia DMV's application for exemption. In addition, because the issues concerning the Virginia DMV request could be applicable in each of the States, FMCSA requests public comment whether the exemption, if granted, should cover all State Driver's Licensing Agencies (SDLAs).

DATES: Comments must be received on or before May 7, 2014.

ADDRESSES: You may submit comments identified by Federal Docket Management System Number FMCSA-2014-0096 by any of the following methods:

• Federal eRulemaking Portal: www.regulations.gov. Follow the online instructions for submitting comments.

• Fax: 1-202-493-2251.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m. E.T., Monday through Friday, except Federal holidays.

Instructions: All submissions must include the Agency name and docket number. For detailed instructions on submitting comments and additional information on the exemption process, see the Public Participation heading below. Note that all comments received will be posted without change to www.regulations.gov, including any personal information provided. Please see the Privacy Act heading below.

Docket: For access to the docket to read background documents or comments received, go to www.regulations.gov, and follow the online instructions for accessing the dockets, or go to the street address listed above.

Privacy Act: Anyone is able to search the electronic form of all comments received into any of our dockets by the name of the individual submitting the comment (or signing the comment, if submitted on behalf of an association, business, labor union, etc.). You may review a Privacy Act notice regarding our public dockets in the January 17, 2008, issue of the Federal Register (73 FR 3316).

Public participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Ms. Pearlie Robinson, FMCSA Driver and Carrier Operations Division; Office of Carrier, Driver and Vehicle Safety Standards; Telephone: 202-366-4325. Email: MCPSD@dot.gov.

SUPPLEMENTARY INFORMATION:

Background

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

Request for Exemption

Virginia DMV requests an exemption from 49 CFR 383.77(b)(1), which allows States to waive the skills test described in section 383.113 for applicants regularly employed or previously employed within the last 90 days in a military position requiring operation of a CMV. Virginia DMV proposes that it be allowed to extend the 90-day timeline to one year following the driver's separation from military service.

Virginia DMV has a comprehensive Troops to Trucks program that assists service members in obtaining a Virginia CDL and civilian employment in the motor carrier industry. Feedback from the Troops to Trucks military partners has identified the 90-day limit as an obstacle to service members transitioning to civilian life.

Virginia DMV contends that the 90-day timeframe is too short for many of the qualified veterans to utilize while reentering civilian life.

According to Virginia DMV, since July 2012 183 service members have utilized the 90-day waiver through the Virginia Troops to Trucks program. It anticipates that an exemption would allow an additional 60 to 100 recent veterans to participate in the program per year. The one-year timeframe is consistent with FMCSA's November 2013 Report to Congress regarding a program to assist veterans to acquire CDLs. The American Trucking Associations has estimated that the motor carrier industry needs about 96,000 new drivers every year. Providing additional flexibility in section 383.77(b)(1) will help to expedite the transition of fully trained military truck drivers to civilian employment.

Virginia DMV believes this goal is in the Nation's best interest. A more accessible waiver period would greatly benefit returning veterans. This is consistent with FMCSA's belief that the skills test waiver serves an important function for military personnel returning to the civilian workforce, as stated in the May 9, 2011 Federal Register notice that created the 90-day waiver (76 FR 26864).

In addition, because the issues concerning the Virginia DMV request could be applicable in each of the States, FMCSA requests public comment on whether the exemption, if granted, should cover all State Driver's Licensing Agencies (SDLAs).

A copy of Virginia DMV's application for exemption is available for review in the docket for this notice.

Request for Comments

In accordance with 49 U.S.C. 31136(e) and 31315(b)(4), FMCSA requests public comment on Virginia DMV's application for an exemption from 49 CFR 383.77(b)(1).

The Agency will consider all comments received by close of business on May 7, 2014. Comments will be available for examination in the docket at the location listed under the ADDRESSES section of this notice. The Agency will consider to the extent practicable comments received in the public docket after the closing date of the comment period.

Issued on: March 31, 2014.
Larry W. Minor,
Associate Administrator for Policy.

[FR Doc. 2014-07695 Filed 4-4-14; 8:45 am]

BILLING CODE 4910-EX-P